DEPARTMENT OF TRANSPORTATION

Federal Aviation Administration

[Docket No. FAA-2012-0089]

Petition for Exemption; Summary of Petition Received

AGENCY: Federal Aviation Administration (FAA), DOT.

ACTION: Notice of petition for exemption received.

SUMMARY: This notice contains a summary of a petition seeking relief from specified requirements of 14 CFR. The purpose of this notice is to improve the public's awareness of, and participation in, this aspect of FAA's regulatory activities. Neither publication of this notice nor the inclusion or omission of information in the summary is intended to affect the legal status of the petition or its final disposition.

DATES: Comments on this petition must identify the petition docket number involved and must be received on or before February 22, 2012.

ADDRESSES: You may send comments identified by Docket Number FAA-2012-0089 using any of the following methods:

• Government-wide rulemaking Web site: Go to http://www.regulations.gov and follow the instructions for sending your comments electronically.

• Mail: Send comments to the Docket Management Facility; U.S. Department of Transportation, 1200 New Jersey Avenue SE., West Building Ground Floor, Room W12-140, Washington, DC 20590.

• Fax: Fax comments to the Docket Management Facility at 202-493-2251.

• Hand Delivery: Bring comments to the Docket Management Facility in Room W12-140 of the West Building Ground Floor at 1200 New Jersey Avenue SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue SE., Washington, DC, between 9 a.m. and 5 p.m., Monday through Friday, except Federal holidays.

FOR FURTHER INFORMATION CONTACT: Robert Hawks, Office of the Chief Counsel, Federal Aviation Administration, 800 Independence Avenue SW., Washington, DC 20591; telephone: (202) 267-7143; email: rob.hawks@faa.gov.

This notice is published pursuant to 14 CFR 11.85.

Issued in Washington, DC, on January 27, 2012.
Rebecca B. MacPherson,
Assistant Chief Counsel for Regulations.

Petition for Exemption

Docket No.: FAA-2012-0089.

Petitioner: Sun Country Airlines.

Section of 14 CFR Affected: 14 CFR 93.123(a).

Description of Relief Sought: Sun Country Airlines requests an exemption from the slot limit for Ronald Reagan Washington National Airport (DCA) set forth in § 93.123(a), to permit the FAA to create air carrier slots during certain limited hours for Sun Country's use. The proposed air carrier slots would replace two slot exemptions under DOT Order 2010-12-16 awarded to Sun Country. On January 6, 2012, the United States Court of Appeals for the District of Columbia Circuit vacated the DOT Order, and Sun Country will lose its existing service between DCA and Lansing's Capital Region International Airport. Specifically, Sun Country desires one daily slot during each of the 1000 and 1100 hours. The proposed exemption would permit Sun Country to continue operating its existing services and avoid an inequitable result of the Court's order.

[FR Doc. 2012-2241 Filed 2-1-12; 8:45 am]

BILLING CODE 4910-13-P